SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for revisions to OMB-approved information collections and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB)

Office of Management and Budget, Attn: Desk Officer for SSA, New Executive Building, Room 10235, 725 17th St., NW., Washington, DC 20503, Fax: 202-395-6974.

(SSA)

Social Security Administration, DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Payment of Certain Travel Expenses—20 CFR 404.999(d) and 416.1499—0906-0434. This regulation mandates travel expense reimbursement by a State or Federal agency for claimants traveling to a consultative examination, or for claimants, their representatives, and non-subpoenaed witnesses who must travel over 75 miles to appear at a disability hearing. State and Federal personnel review the listing and the receipts to verify the amount of reimbursement. The respondents are claimants for Title II/XVI benefits and/or their representatives and non-subpoenaed witnesses.

Type of Request: Extension of an OMB-approved information collection.

Number of Respondents: 50,000.

Frequency of Response: 1.

Average Burden Per Response: 10 minutes.

Estimated Annual Burden: 8,333 hours.

2. Request for Social Security Earnings Information—20 CFR 404.810 and 401.100—0960-0525. The Social Security Act provides that a wage earner, or someone authorized by a wage earner, may request Social Security earnings information from the Social Security Administration, using form SSA-7050. SSA uses the information collected on the form to verify that the requestor is authorized to access the earnings record and to produce the earnings statement. The respondents are wage earners and organizations and legal representatives authorized by the wage earner.

Type of Request: Extension of an OMB-approved information collection.

Number of Respondents: 87,000.

Frequency of Response: 1.

Average Burden Per Response: 11 minutes.

Estimated Annual Burden: 15,950 hours.

3. Plan for Achieving Self-Support—20 CFR 416.1180-1182 and .1225-1227—0960-0559. The information on form SSA-545 is collected by SSA when a Supplemental Security Income (SSI) applicant/recipient desires to use available income and resources to obtain education and/or training in order to become self-supporting. The information is used to evaluate the recipient's plan for achieving self-support to determine whether the plan may be approved under the provisions of the SSI program. The respondents are SSI applicants/recipients who are blind or disabled.

Type of Request: Extension of OMB-approved information collection.

Number of Respondents: 7,000.

Frequency of Response: 1.

Average Burden Per Response: 2 hours.

Estimated Annual Burden: 14,000 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Requests for Self-Employment Information, Employee Information, Employer Information—20 CFR, Subpart A, 422.120—0960-0508. SSA uses Forms SSA-L2765, SSA-L3365 and SSA-L4002 to request correct information when an employer, employee or self-employed person reports an individual's earnings without a Social Security Number (SSN) or with an incorrect name or SSN. The respondents are employers, employees or self-employed individuals who are requested to furnish additional identifying information.

Type of Request: Revision of an OMB-approved information collection.

Number of Respondents: 3,000,000.

Frequency of Response: 1.

Average Burden Per Response: 10 minutes.

Estimated Annual Burden: 500,000 hours.

2. Function Report-Child: Birth to 1st Birthday (SSA-3375), Age 1 to 3rd Birthday (SSA-3376), Age 3 to 6th Birthday (SSA-3377), Age 6 to 12th Birthday (SSA-3378), and Age 12 to 18th Birthday (SSA-3379)—20 CFR 416.912—0960-0542. State Agency adjudicative teams use the information gathered by these forms in combination with other medical function evidence to form a complete picture of a child's ability to function. This information is used to help determine if a child is disabled, especially in cases in which disability cannot be found on medical grounds alone. The respondents are applicants for Title XVI childhood disability benefits and their caregivers.

Type of Request: Extension of an OMB-approved information collection.

Number of Respondents: 650,000.

Frequency of Response: 1.

Average Burden Per Response: 20 minutes.

Estimated Annual Burden: 216,667 hours.

3. Function Report-Third Party—20 CFR 404.1512 and 416.912—0960-0635. The Social Security Act requires claimants to provide medical and other evidence to prove they are disabled. The Act also gives the Commissioner of Social Security the authority to make rules and regulations about the nature and extent of the evidence required to prove disability as well as the methods of obtaining this evidence. The information collected by form SSA-3380 is needed to determine disability under Title II (Old-Age, Survivors and Disability Insurance (OASDI) and/or Title XVI (SSI). The form records information about the disability applicant's illnesses, injuries, conditions, impairment-related limitations, and ability to function. The respondents are individuals who are familiar with the disability applicant's impairment, limitations, and ability to function.

Note: Please note the following burden data differ from that provided in the 60-day Federal Register notice, published April 5, 2004. SSA inadvertently published the wrong burden data in the first notice.

Type of Request: Revision of an OMB-approved information collection.

Number of Respondents: 1,500,000.

Frequency of Response: 1.

Average Burden Per Response: 30 minutes.

Estimated Annual Burden: 750,000 hours.

4. Child-Care Dropout Questionnaire—20 CFR 404.211(e)(4)—0960-0474. The information collected on Form SSA-4162 is used by SSA to determine whether an individual qualifies for child care exclusion in computing the individual's disability benefit amount. The respondents are applicants for disability benefits.

Type of Request: Extension of an OMB-approved information collection.

Number of Respondents: 2,000.

Frequency of Response: 1.

Average Burden Per Response: 5 minutes.

Estimated Annual Burden: 167 hours.

5. Representative Payee Report—20 CFR 404.265, 416.665—0960-NEW. The information collected on Form SSA-6234 is sent to all organizational representative payees (i.e., institutions, agencies) to determine whether the payments received on behalf of the beneficiaries have been used for their current maintenance and personal needs; to ensure that the payee continues to be concerned about the beneficiary's welfare; and to ascertain if the beneficiary is being charged a fee appropriately and how much the fee is. The respondents are all organizational representative payees for beneficiaries receiving Social Security benefits or SSI payments.

Type of Request: New information collection.

Number of Respondents: 750,000.

Frequency of Response: 1.

Average Burden Per Response: 15 minutes.

Estimated Annual Burden: 187,500 hours.

6. Appointment of Representation—20 CFR 404.1707, 410.684, and 416.1507—0960-0527. The information collected by SSA on form SSA-1696-U4 is used to verify the applicant's appointment of a representative. It allows SSA to inform the representative of items which affect the applicant's claim. The affected public consists of applicants who notify SSA that they have appointed a person to represent them in their dealings with SSA when claiming a right to benefits.

Type of Request: Extension of an OMB-approved information collection.

Number of Respondents: 551,520.

Frequency of Response: 1.

Average Burden Per Response: 10 minutes.

Estimated Annual Burden: 91,920 hours.

Dated: June 29, 2004.
Elizabeth A. Davidson,
Reports Clearance Officer, Social Security Administration.

[FR Doc. 04-15263 Filed 7-6-04; 8:45 am]

BILLING CODE 4191-02-P